FEDERAL RESERVE SYSTEM

Agency Information Collection Activities: Announcement of Board Approval Under Delegated Authority and Submission to OMB

AGENCY: Board of Governors of the Federal Reserve System

SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer--Michelle Shore--Division of Research and Statistics, Board of Governors of the Federal Reserve System, Washington, DC 20551 (202-452-3829)

OMB Desk Officer--Alexander T. Hunt--Office of Information and Regulatory Affairs, Office of Management and Budget, New Executive Office Building, Room 10235, Washington, DC 20503.

Final approval under OMB delegated authority of the extension for three years, with revision, of the following report:

Report title: Report of Money Market Mutual Fund Assets

Agency form number: FR 2051a (formerly FR 2051a,b)

OMB control number: 7100-0012

Frequency: Weekly

Reporters: Money Market Mutual Funds

Annual reporting hours: 5,200 hours

Estimated average hours per response: 3 minutes

Number of respondents: 2,000

General description of report: This information collection is voluntary (12 U.S.C. 353 et. seq.) and is given confidential treatment [5 U.S.C. 552(b)(4)].

Abstract: The weekly FR 2051a collects data on total shares outstanding for approximately 2,000 money market mutual funds. The monthly FR 2051b collects data on total net assets and portfolio holdings for approximately 600 funds. The data are used to construct the monetary aggregates and for the analysis of current money market conditions and banking developments.

Current Actions: On February 1, 2007, the Federal Reserve published a notice in the Federal Register (72 FR 4708) requesting public comment for 60 days on the extension, with revision, of the Report of Money Market Mutual Fund Assets. The comment period for this notice expired on April 2, 2007. No comments were received. The revisions will be implemented as proposed.

The Federal Reserve proposed to discontinue the monthly FR 2051b. Prior to the discontinuance of the M3 monetary aggregate in March 2006, the monthly data were used in the construction of the M3 aggregate. Due to the M3 discontinuance, data from the FR 2051b are no longer necessary. The discontinuance of the FR 2051b will reduce the annual burden by 1,440 hours to 5,200 hours.

Final approval under OMB delegated authority of the extension for three years, without revision, of the following reports:

1. Report title: Uniform Application for Municipal Securities Principal or Municipal Securities Representative Associated with a Bank Municipal Securities Dealer; Uniform Termination Notice for Municipal Securities Principal or Municipal Securities Representative Associated with a Bank Municipal Securities Dealer

Agency form number: FR MSD-4, FR MSD-5

OMB control number: 7100-0100, 7100-0101

Frequency: On occasion

Reporters: State member banks and foreign dealer banks engaging in activities as municipal securities dealers.

Annual reporting hours: FR MSD-4, 76 hours; FR MSD-5, 30 hours

Estimated average hours per response: FR MSD-4, 1 hour; FR MSD-5, 0.25 hours

Number of respondents: FR MSD-4, 76; FR MSD-5, 119

General description of report: These information collections are mandatory for state member banks (12 U.S.C. § 248(a)(1)) and for foreign bank branches and agencies (12 U.S.C. 3105(c)(2)) and are given confidential treatment (5 U.S.C. § 552(b)(6)).

Abstract: The FR MSD-4 collects information, such as personal history and professional qualifications, on an employee whom the bank wishes to assume the duties of a municipal securities principal or representative. The FR MSD-5 collects the date of, and reason for, termination of such an employee.

Current Actions: On February 1, 2007, the Federal Reserve published a notice in the Federal Register (72 FR 4708) requesting public comment for 60 days on the extension, without revision, of the Uniform Application for Municipal Securities Principal or Municipal Securities Representative Associated with a Bank Municipal Securities Dealer, and the Uniform Termination Notice for Municipal Securities Principal or Municipal Securities Representative Associated with a Bank Municipal Securities Dealer. The comment period for this notice expired on April 2, 2007. No comments were received.

2. Report title: Notice By Financial Institutions of Government Securities Broker or Government Securities Dealer Activities; Notice By Financial Institutions of Termination of Activities as a Government Securities Broker or Government Securities Dealer

Agency form number: FR G-FIN, FR G-FINW

OMB control number: 7100-0224

Frequency: On occasion

Reporters: State member banks, foreign banks, uninsured state branches or state agencies of foreign banks, commercial lending companies owned or controlled by foreign banks, and Edge corporations.

Annual reporting hours: FR G-FIN, 26 hours; FR G-FINW, 1 hour

Estimated average hours per response: FR G-FIN, 1 hour; FR G-FINW, 0.25 hours

Number of respondents: FR G-FIN, 26; FR G-FINW, 5

General description of report: These information collections are mandatory (15 U.S.C. 78o-5(a)(1)(B)) and are not given confidential treatment.

Abstract: The Government Securities Act of 1986 (the Act) requires financial institutions to notify their appropriate regulatory authority of their intent to engage in government securities broker or dealer activity, to amend information submitted previously, and to record their termination of such activity. The Federal Reserve Board uses the information in its supervisory capacity to measure compliance with the Act.

Current Actions: On February 1, 2007, the Federal Reserve published a notice in the Federal Register (72 FR 4708) requesting public comment for 60 days on the extension, without revision, of the Notice By Financial Institutions of Government Securities Broker or Government Securities Dealer Activities, and the Notice By Financial Institutions of Termination of Activities as a Government Securities Broker or Government Securities Dealer. The comment period for this notice expired on April 2, 2007. No comments were received.

Board of Governors of the Federal Reserve System, April 11, 2007.
Jennifer J. Johnson
Secretary of the Board.

[FR Doc. E7-7137 Filed 4-13-07; 8:45 am]

BILLING CODE 6210-01-S